DEPARTMENT OF STATE

[Public Notice 6804]

Bureau of Educational and Cultural Affairs (ECA) Request for Grant Proposals: Study of the U.S. Institutes for Student Leaders

Announcement Type: New Cooperative Agreements

Funding Opportunity Number: ECA/A/E/USS-10-11-25

Catalog of Federal Domestic Assistance Number: 19.009

Key Dates: April, 2010 to April, 2011

Application Deadline: January 14, 2010

Executive Summary: The Branch for the Study of the United States, Office of Academic Exchange Programs, Bureau of Educational and Cultural Affairs, invites proposal submissions for the design and implementation of approximately fifteen (15) Study of the United States Institutes for Student Leaders under five different themes. Taking place over the course of five weeks, the Institutes will be scheduled throughout a one year period, starting in April 2010 and ending in March 2011. The scheduling of each Institute should coincide with the academic calendar of the participants' home country(ies) (see specific themes, dates, and country groups below in section I.4).

The Institutes should take place at U.S. academic institutions and provide groups of highly motivated undergraduate students from the countries and regions noted below with in-depth seminars on the topics detailed in the following section. Each Institute should include four weeks of academic residency followed by a one-week integrated educational travel tour that will expose participants to a different region of the United States. The one-week educational study tour should conclude with a two or three day session in Washington, DC.

Each Institute will host up to 20 participants, for a total of approximately 300 students. ECA plans to provide several awards for the administration of the 15 Study of the U.S. Institutes and welcomes applications from accredited post-secondary education institutions in the United States and public and private non-profit organizations or consortia of organizations (see Eligibility Information, section III). The awarding of Cooperative Agreements for this program is contingent upon the availability of FY 2010 funds.

I. Funding Opportunity Description

I.1. Authority

Overall grant making authority for this program is contained in the Mutual Educational and Cultural Exchange Act of 1961, Public Law 87-256, as amended, also known as the Fulbright-Hays Act. The purpose of the Act is to “enable the Government of the United States to increase mutual understanding between the people of the United States and the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

I.2. Purpose

The Study of the U.S. Institutes for Student Leaders are intensive academic programs whose purpose is to provide groups of undergraduate students with a deeper understanding of the United States while also exposing Americans to the diverse cultures and traditions of the exchange participants.

The principal objective of the Institutes is to provide a group of undergraduate leaders an introduction to a specific field of study, while also heightening their awareness of the history and evolution of U.S. society, culture, values, and institutions, broadly defined. In this context, the Institutes should incorporate a focus on contemporary American life, as it is shaped by historical and/or current political, social, and economic issues and debates. The role and influence of principles and values such as democracy, the rule of law, individual rights, freedom of expression, equality, and diversity and tolerance should be addressed.

In addition to promoting a better understanding of the United States, an important objective of the Institutes is to develop the participants' leadership skills. In this context, the academic program should include group discussions, trainings, and exercises that focus on topics such as leadership, teambuilding, collective problem-solving skills, effective communication, and management skills for diverse organizational settings. Institutes should include a community service component in which the students experience firsthand how not-for-profit organizations and volunteerism play a key role in American civil society.

Local site visits and educational travel should provide opportunities to observe varied aspects of American life and to discuss lessons learned in the academic program. The program should also include opportunities for participants to meet American citizens from a variety of backgrounds, to interact with their American peers, and to speak to appropriate student and civic groups about their experiences and life in their home countries.

I.3. Overview

Institutes will provide an in depth study of one of the themes outlined below. Participants should gain both theoretical knowledge and practical skills that will allow them to excel in their disciplines. In addition to thematic teaching, all institutes should explore American history, government, society, and culture through the lens of its particular theme. All Institutes should include opportunities for leadership development, specifically as it relates to each field. Institutes should also expose participants to community organizations that provide advocacy or other services relevant to the particular theme.

I.4. Institute Themes

(a.) The Study of the U.S. Institute on Global Environmental Issues should explore the role that environmental policy has played in the economic and political development of the United States. The Institute should use experiential learning techniques to expose participants to current themes in the field, including natural resource management, sustainable development/sustainable agricultural practices, food security, ecotourism, energy generation (new and traditional forms), and water management and treatment. The issues should be explored from numerous angles: local grassroots activism and civic initiatives, market-oriented approaches, and federal government policies and regulation. The Institute might also examine the relationship between environmental security and national security. Finally, the Institute should explore environmental issues in the context of a globalized society, and draw comparisons between the United States and the participants' home countries. Participants will be drawn from the following regions and countries:

(1) Southeast Asia (possible countries include Burma, Thailand, Philippines, Malaysia, Indonesia)—May and June 2010

(2) Southeast Asia (possible countries include Cambodia, Vietnam, Laos)—July and August 2010

(3) Middle East (possible countries include Jordan, Israel)—July and August 2010

(b.) The Study of the U.S. Institute on New Media should examine major topics in journalism, including the concept of a free press, First Amendment rights, the media's relationship to the public interest, and media business models. The Institute should cover all elements of journalism: Researching, writing, editing, and reporting with particular emphasis on new forms of media. The program should underscore the impact of new technologies on journalism, and give participants new skills such as working with on-line photos and videos; `twittering;' publishing blogs; utilizing social networking and other internet sites; and other new technologies. Participants will be drawn from the following regions and countries:

(1) South Asia (possible countries include India, Nepal, Bangladesh, Sri Lanka)—May and June 2010

(2) Middle East (possible countries include Iraq, Lebanon, Syria, Israel)—July and August 2010

(3) Southeast Asia (possible countries include Indonesia, Malaysia, Philippines)—May and June 2010

(c.) The Study of the U.S. Institute on Religious Pluralism in the United States should explore U.S. history, society, and institutions within the context of religious pluralism and interfaith dialogue. Topics should include, but are not limited to, early religious traditions in the U.S.; the separation of church and state; immigration and the introduction of new religions in the U.S.; protection and representation of minority groups and religions; and interfaith dialogue and cooperation in a diverse and rapidly changing world. Participants should meet with U.S. community leaders of different faiths that advocate for collaboration and tolerance among religious groups. Participants should also examine the leadership role that religious officials play in their own societies and develop ideas for how they can work with leaders, of similar or different faiths, to bring about positive social change. Participants will be drawn from the following regions and countries:

(1) Afghanistan—January and February 2011

(2) Middle East (possible countries include Egypt, Lebanon, Iraq, Saudi Arabia)—July and August 2010

(3) Indonesia—January and February 2011

(d.) The Study of the U.S. Institute on Social Entrepreneurship should provide participants with an overview of how to employ entrepreneurial skills to address social issues. The Institute should review the development, history, challenges, and successes of social enterprises and community leaders, in the United States and globally. Topics may include, but are not limited to, microfinance; organizational development and management; grant writing; innovation; emerging markets and risk analysis; strategic business planning; corporate social responsibility; and, women and minorities in entrepreneurship.

Participants will be drawn from the following regions and countries:

(1) North Africa (possible countries include Algeria, Tunisia, Morocco, Egypt)—July and August 2010

(2) Turkey—July and August 2010

(3) Africa (possible countries include Sierra Leone, Cote D'Ivoire, Mali, Senegal, Nigeria)—July and August 2010

(e.) The Study of the U.S. Institute on Women's Leadership should examine the history and participation of women in public life in the United States. The Institute should focus on two major areas: (1) Developing participants' leadership skills in areas such as critical thinking, communication, decision-making, and managerial abilities; and, (2) Placing these abilities in the context of the history and participation of women in U.S. politics, economics, culture, and society. The Institute should examine the historical domestic progress towards women's equality in the United States, the current domestic successes and challenges to women in a variety of fields, and current challenges in global women's issues. Participants will be drawn from the following regions and countries:

(1) South Asia (possible countries include Afghanistan, Pakistan, India)—July and August 2010

(2) Middle East (possible countries include Egypt, Morocco, Saudi Arabia)—July and August 2010

(3) Middle East (possible countries include Oman, Bahrain, UAE, Yemen)—January and February 2011

I.5. Program Administration

The Bureau is seeking detailed proposals from accredited post-secondary U.S. institutions (community colleges, liberal arts colleges, public and private universities), consortia of organizations, and/or from public and private non-profit organizations meeting the eligibility requirements outlined under Section III below. Consortia applicants must designate a lead institution to receive the Cooperative Agreement. Organizations that opt to work in sub-grant arrangements should clearly outline all duties and responsibilities of the partner organization(s), ideally in the form of sub-grant agreements that include detailed line-item budgets.

Organizations that propose to administer multiple Institutes under sub-grantee agreements should designate a project director to oversee all of the Institutes, coordinate logistical and administrative arrangements, ensure an appropriate level of continuity between the various host institution programs, and serve as the principal liaison between ECA and all the host institutions and thus, be ECA's primary point of contact.

Each host institution should designate an administrative director to oversee all student support services, including supervision of the program participants and budgetary, logistical, and other administrative arrangements. Each organization also should designate an academic director who will be present throughout the program to ensure the continuity, coherence, and integration of all aspects of the academic program, including the related educational study tour. It is important that the applicant organization also retain qualified “cultural ambassadors” or “graduate mentors” (or another appropriate name) at each host institution who exhibit cultural sensitivity, an understanding of the program's objectives, and a willingness to accompany the students throughout the program.

I.6. Participants

Participants will be identified and nominated by the U.S. Embassies and Consulates and/or Fulbright Commissions with final selection made by ECA. Each Institute will host up to 20 participants, for a total of approximately 300 students.

Participants will be drawn from among the priority country groupings listed after each of the thematic institutes described above. Applicants are welcome to indicate their preference for one of the country groups listed by theme and if so, should indicate any regional expertise. ECA will make the final decisions regarding participating countries and reserves the right to adjust the regions and countries participating in this activity based upon Department priorities.

Participants in the Study of the U.S. Institutes for Student Leaders will be highly motivated undergraduate students from colleges, universities, and other institutions of higher education in selected countries overseas who demonstrate leadership through academic work, community involvement, and extracurricular activities. Their major fields of study will be varied, and will include the sciences, social sciences, humanities, education, and business. All participants will have a good knowledge of English and will have demonstrated interest in the Institute's theme.

Every effort will be made to select a balanced mix of male and female participants, and to recruit participants who are from non-elite or underprivileged backgrounds, from both rural and urban areas, and have had little or no prior experience in the United States or elsewhere outside of their home country.

I.7. Program Dates

The Institutes should be five weeks in length. The Institutes will be scheduled at various times throughout the year, with the first Institutes beginning in April 2010, and the last Institutes ending as late as March 2011. A proposed time line is indicated next to each country group listed above.

I.8. Program Guidelines

While the conception and structure of the Institute agenda is the responsibility of the organizers, it is essential that proposals provide a detailed and comprehensive narrative describing the objectives of the Institute; the title, scope, and content of each session; planned site visits; and how each session relates to the overall Institute theme. Proposals must include a syllabus that indicates the subject matter for each lecture, panel discussion, group presentation, or other activity. The syllabus also should confirm or provisionally identify proposed speakers, trainers, and session leaders, and clearly show how assigned readings will advance the goals of each session. Overall, proposals will be reviewed on the basis of their responsiveness to RFGP criteria, coherence, clarity, and attention to detail. The accompanying Project Objectives, Goals, and Implementation (POGI) document provides program-specific guidelines that all proposals must address fully.

Please note: In a Cooperative Agreement, the Branch for the Study of the United States is substantially involved in program activities above and beyond routine grant monitoring. The Branch will assume the following responsibilities for the Institute: Participate in the final selection of participants; debrief participants in Washington, DC at the conclusion of the Institute; and engage in follow-on communication with the participants after they return to their home countries. The Branch may request that the recipient make modifications to the academic residency and/or educational travel components of the program. The recipient will be required to obtain approval of significant program changes in advance of their implementation.

II. Award Information

Type of Award: Cooperative Agreement. ECA's level of involvement in this program is listed under number I above.

Fiscal Year Funds: FY 2010.

Approximate Total Funding: $3,600,000.

Approximate Number of Awards: Up to five.

Floor of Award Range: $240,000.

Ceiling of Award Range: $1,680,000.

Anticipated Award Date: Pending availability of funds, April 1, 2010.

Anticipated Project Completion Date: April 2011.

Additional Information: Pending successful implementation of this program and the availability of funds in subsequent fiscal years, it is ECA's intent to renew this cooperative agreement for two additional fiscal years, before openly competing it again.

III. Eligibility Information

III.1 Eligible Applicants

Applications may be submitted by public and private non-profit organizations meeting the provisions described in Internal Revenue Code section 26 U.S.C. 501(c)(3).

An applicant organization is defined by the DUNS number of the organization and by the signature of the authorized representative contained on the “Application for Federal Assistance Form” (SF-424) submitted under this competition.

III.2 Cost Sharing or Matching Funds

There is no minimum or maximum percentage required for this competition. However, the Bureau encourages applicants to provide maximum levels of cost sharing and funding in support of its programs. When cost sharing is offered, it is understood and agreed that the applicant must provide the amount of cost sharing as stipulated in its proposal and later included in an approved agreement. Cost sharing may be in the form of allowable direct or indirect costs. For accountability, the recipient institution must maintain written records to support all costs which are claimed as a contribution, as well as costs to be paid by the Federal government. Such records are subject to audit. The basis for determining the value of cash and in-kind contributions must be in accordance with OMB Circular A-110, (Revised), Subpart C.23—Cost Sharing and Matching. In the event the recipient institution does not provide the minimum amount of cost sharing as stipulated in the approved budget, ECA's contribution will be reduced in like proportion.

III.3 Other Eligibility Requirements

(a.) Grants awarded to eligible organizations with less than four years of experience in conducting international exchange programs will be limited to $60,000. ECA anticipates that the minimum award under this competition will be approximately $240,000. Therefore, organizations with less than four years experience in conducting international exchanges are ineligible to apply under this competition. The Bureau encourages applicants to provide maximum levels of cost sharing and funding in support of its programs.

(b.) Technical Eligibility: It is ECA's intent to fund a total of fifteen (15) thematic institutes, three under each theme, as a result of this solicitation.

Applicant organizations may submit no more than one application under this competition for Option A or Option B. as outlined below. See Section III.1 above, for a definition of an applicant organization.

If multiple proposals are received from the same applicant organization, all submissions will be declared technically ineligible and will be given no further consideration in the review process. All applicants are strongly encouraged to read this RFGP thoroughly, prior to developing and submitting a proposal, to ensure that proposed activities are appropriate and responsive to the goals, objectives and criteria outlined in the solicitations.

Applicants should indicate whether they are applying under Option A or Option B, as detailed below.

Option A: Total available funding up to $240,000 (one institute) or up to $480,000 (two institutes). Under Option A, applicant organizations (colleges, universities, or NGOs) are invited to submit one application to host no more than two Institutes under any of the themes listed in Section I.4. It is anticipated that between 1 and 5 awards will be made under Option A.

Option B: Total available funding up to $1,680,000. Under Option B, other public and private non-profit organizations or consortia of organizations must propose to administer seven (7) Institutes in one application. Organizations, using sub-grantee agreements, must propose to administer at least one Institute under each of the five (5) themes listed above, and two additional Institutes in the theme(s) of their choice. It is anticipated that up to two awards may be made under Option B.

All proposals should clearly indicate the desired theme, country group, and time line from Section I.4 above, and should demonstrate thematic expertise, as well as any regional expertise, if applicable. ECA reserves the right to assign the final country groupings.

ECA also reserves the right to adjust the total funding amount to the applicant organizations based upon the quality of the proposed activity and each organization's demonstrated expertise.

IV. Application and Submission Information

Note: Please read the complete announcement before sending inquiries or submitting proposals. Once the RFGP deadline has passed, Bureau staff may not discuss this competition with applicants until the proposal review process has been completed.

IV.1 Contact Information To Request an Application Package

Please contact the Branch for the Study of the United States, ECA/A/E/USS; SA-5, Fourth Floor; U.S. Department of State; Washington, DC 20522-0504, (202) 632-3337 to request a Solicitation Package. Please refer to the Funding Opportunity Number ECA/A/E/USS-10-11-25 located at the top of this announcement when making your request.

Alternatively, an electronic application package may be obtained from grants.gov. Please see section IV.3f for further information.

The Solicitation Package contains the Proposal Submission Instruction (PSI) document which consists of required application forms, and standard guidelines for proposal preparation.

It also contains the Project Objectives, Goals, and Implementation (POGI) document, which provides specific information, award criteria and budget instructions tailored to this competition.

Please specify Amy M. Rustan and refer to the Funding Opportunity Number ECA/A/E/USS-10-11-25 located at the top of this announcement on all other inquiries and correspondence.

IV.2 To Download a Solicitation Package Via Internet

The entire Solicitation Package may be downloaded from the Bureau's Web site at: http://exchanges.state.gov/grants/open2.html, or from the Grants.gov Web site at: http://www.grants.gov.

Please read all information before downloading.

IV.3 Content and Form of Submission

Applicants must follow all instructions in the Solicitation Package. The application should be submitted per the instructions under section IV.6 Application Deadline and Methods of Submission, indicated below.

IV.3a. You are required to have a Dun and Bradstreet Data Universal Numbering System (DUNS) number to apply for a grant or cooperative agreement from the U.S. Government. This number is a nine-digit identification number, which uniquely identifies business entities. Obtaining a DUNS number is easy and there is no charge. To obtain a DUNS number, access http://www.dunandbradstreet.com or call 1-866-705-5711. Please ensure that your DUNS number is included in the appropriate box of the SF-424 which is part of the formal application package.

IV.3b. All proposals must contain an executive summary, proposal narrative, and budget.

Please Refer to the Solicitation Package. It contains the mandatory Proposal Submission Instructions (PSI) document and the Project Objectives, Goals, and Implementation (POGI) document for additional formatting and technical requirements.

IV.3c. You must have nonprofit status with the IRS at the time of application. Please note: Effective January 7, 2009, all applicants for ECA federal assistance awards must include in their application the names of directors and/or senior executives (current officers, trustees, and key employees, regardless of amount of compensation). In fulfilling this requirement, applicants must submit information in one of the following ways:

(1) Those who file Internal Revenue Service Form 990, “Return of Organization Exempt From Income Tax,” must include a copy of relevant portions of this form.

(2) Those who do not file IRS Form 990 must submit information above in the format of their choice.

In addition to final program reporting requirements, award recipients will also be required to submit a one-page document, derived from their program reports, listing and describing their grant activities. For award recipients, the names of directors and/or senior executives (current officers, trustees, and key employees), as well as the one- page description of grant activities, will be transmitted by the State Department to OMB, along with other information required by the Federal Funding Accountability and Transparency Act (FFATA), and will be made available to the public by the Office of Management and Budget on its USASpending.gov Web site as part of ECA's FFATA reporting requirements.

If your organization is a private nonprofit which has not received a grant or cooperative agreement from ECA in the past three years, or if your organization received nonprofit status from the IRS within the past four years, you must submit the necessary documentation to verify nonprofit status as directed in the PSI document. Failure to do so will cause your proposal to be declared technically ineligible.

IV.4 Program Regulations

IV.4.1 Adherence to All Regulations Governing the J Visa

The Bureau of Educational and Cultural Affairs places critically important emphases on the security and proper administration of the Exchange Visitor (J visa) Programs and adherence by award recipients and sponsors to all regulations governing the J visa. Therefore, proposals should demonstrate the applicant's capacity to meet all requirements governing the administration of the Exchange Visitor Programs as set forth in 22 CFR part 62, including the oversight of Responsible Officers and Alternate Responsible Officers, screening and selection of program participants, provision of pre-arrival information and orientation to participants, monitoring of participants, proper maintenance and security of forms, record-keeping, reporting, and other requirements.

Administering organizations will be asked to issue participants DS2019 forms and ship them to the Public Affairs Sections at posts.

ECA will issue participant DS 2019 forms for organizations with direct agreements with ECA.

A copy of the complete regulations governing the administration of Exchange Visitor (J) programs is available at http://exchanges.state.gov or from: United States Department of State, Office of Exchange Coordination and Designation, Office of Designation, ECA/EC/D, SA-5, Floor C2, Department of State, Washington, DC 20522-0582.

Please refer to Solicitation Package for further information.

IV.4.2 Diversity, Freedom, and Democracy Guidelines

Pursuant to the Bureau's authorizing legislation, programs must maintain a non-political character and should be balanced and representative of the diversity of American political, social, and cultural life. “Diversity” should be interpreted in the broadest sense and encompass differences including, but not limited to ethnicity, race, gender, religion, geographic location, socio-economic status, and disabilities. Applicants are strongly encouraged to adhere to the advancement of this principle both in program administration and in program content. Please refer to the review criteria under the `Support for Diversity' section for specific suggestions on incorporating diversity into your proposal. Public Law 104-319 provides that “in carrying out programs of educational and cultural exchange in countries whose people do not fully enjoy freedom and democracy,” the Bureau “shall take appropriate steps to provide opportunities for participation in such programs to human rights and democracy leaders of such countries.” Public Law 106-113 requires that the governments of the countries described above do not have inappropriate influence in the selection process. Proposals should reflect advancement of these goals in their program contents, to the full extent deemed feasible.

IV.4.3 Program Monitoring and Evaluation

Proposals must include a plan to monitor and evaluate the project's success, both as the activities unfold and at the end of the program. The Bureau recommends that proposals include a draft survey questionnaire or other technique plus a description of a methodology used to link outcomes to original project objectives. The Bureau expects that the recipient organization will track participants or partners and be able to respond to key evaluation questions, including satisfaction with the program, learning as a result of the program, changes in behavior as a result of the program, and effects of the program on institutions (institutions in which participants work or partner institutions). The evaluation plan should include indicators that measure gains in mutual understanding as well as substantive knowledge.

Successful monitoring and evaluation depend heavily on setting clear goals and outcomes at the outset of a program. An evaluation plan should include a description of project's objectives, anticipated project outcomes, and how and when outcomes will be measured (performance indicators). The more that outcomes are “smart” (specific, measurable, attainable, results-oriented, and placed in a reasonable time frame), the easier it will be to conduct the evaluation. Applicants should also show how project objectives link to the goals of the program described in this RFGP.

Monitoring and evaluation plans should clearly distinguish between program outputs and outcomes. Outputs are products and services delivered, often stated as an amount. Output information is important to show the scope or size of project activities, but it cannot substitute for information about progress towards outcomes or the results achieved. Examples of outputs include the number of people trained or the number of seminars conducted. Outcomes, in contrast, represent specific results a project is intended to achieve and is usually measured as an extent of change. Findings on outputs and outcomes should both be reported, but the focus should be on outcomes.

We encourage applicants to assess the following four levels of outcomes, as they relate to the program goals set out in the RFGP (listed here in increasing order of importance):

1. Participant satisfaction with the program and exchange experience.

2. Participant learning, such as increased knowledge, aptitude, skills, and changed understanding and attitude. Learning includes both substantive (subject-specific) learning and mutual understanding.

3. Participant behavior, concrete actions to apply knowledge in work or community; greater participation and responsibility in civic organizations; interpretation and explanation of experiences and new knowledge gained; continued contacts between participants, community members, and others.

4. Institutional changes, such as increased collaboration and partnerships, policy reforms, new programming, and organizational improvements.

Please note: Consideration should be given to the appropriate timing of data collection for each level of outcome. For example, satisfaction is usually captured as a short-term outcome, whereas behavior and institutional changes are normally considered longer-term outcomes.

Overall, the quality of a monitoring and evaluation plan will be judged on how well it (1) specifies intended outcomes; (2) gives clear descriptions of how each outcome will be measured; (3) identifies when particular outcomes will be measured; and (4) provides a clear description of the data collection strategies for each outcome (i.e., surveys, interviews, or focus groups). (Please note that evaluation plans that deal only with the first level of outcomes [satisfaction] will be deemed less competitive under the present evaluation criteria.)

Recipient organizations will be required to provide reports analyzing their evaluation findings to the Bureau in their regular program reports. All data collected, including survey responses and contact information, must be maintained for a minimum of three years and provided to the Bureau upon request.

IV.5 Budget

IV.5.1 Applicants must submit SF-424A—“Budget Information—Non-Construction Programs” along with a comprehensive budget for the entire program. There must be a summary budget as well as breakdowns reflecting both administrative and program budgets. Applicants may provide separate sub-budgets for each program component, phase, location, or activity to provide clarification.

IV.5.2 Allowable costs for the program include the following:

(1) Institute staff salary and benefits

(2) Participant housing and meals

(3) Participant travel and per diem

(4) Textbooks, educational materials, and admissions fees

(5) Honoraria for guest speakers

(6) Follow-on programming for alumni of Study of the United States programs.

Please refer to the Solicitation Package for complete budget guidelines and formatting instructions.

IV.6 Application Deadline and Methods of Submission

Application Deadline Date: January 14, 2010

Reference Number: ECA/A/E/USS-10-11-25

Methods of Submission:

Applications may be submitted in one of two ways:

(1) In hard-copy, via a nationally recognized overnight delivery service (i.e., Federal Express, UPS, Airborne Express, or U.S. Postal Service Express Overnight Mail, etc.), or

(2) Electronically through http://www.grants.gov. Along with the Project Title, all applicants must enter the above Reference Number in Box 11 on the SF-424 contained in the mandatory Proposal Submission Instructions (PSI) of the solicitation document.

IV.6.1 Submitting Printed Applications

Applications must be shipped no later than the above deadline. Delivery services used by applicants must have in-place, centralized shipping identification and tracking systems that may be accessed via the Internet and delivery people who are identifiable by commonly recognized uniforms and delivery vehicles. Proposals shipped on or before the above deadline but received at ECA more than seven days after the deadline will be ineligible for further consideration under this competition. Proposals shipped after the established deadlines are ineligible for consideration under this competition. ECA will not notify you upon receipt of application. It is each applicant's responsibility to ensure that each package is marked with a legible tracking number and to monitor/confirm delivery to ECA via the Internet. Delivery of proposal packages may not be made via local courier service or in person for this competition. Faxed documents will not be accepted at any time. Only proposals submitted as stated above will be considered.

Important note: When preparing your submission please make sure to include one extra copy of the completed SF-424 form and place it in an envelope addressed to “ECA/EX/PM”.

The original and six (6) copies of the application should be sent to: Program Management Division, ECA-IIP/EX/PM, Ref.: ECA/A/E/USS-10-11-25, SA-5, Floor 4, Department of State, 2200 C Street, NW., Washington, DC 20522-0514.

Applicants submitting hard-copy applications must also submit the “Executive Summary” and “Proposal Narrative” sections of the proposal in text (.txt) or Microsoft Word format on a CD-ROM. The Bureau will provide these files electronically to the appropriate Public Affairs Section(s) at the U.S. embassy(ies) for its(their) review.

IV.6.2 Submitting Electronic Applications

Applicants have the option of submitting proposals electronically through Grants.gov (http://www.grants.gov). Complete solicitation packages are available at Grants.gov in the “Find” portion of the system.

Please Note: Due to Recovery Act related opportunities, there has been a higher than usual volume of grant proposals submitted through Grants.gov. Potential applicants are advised that the increased volume may affect the grants.gov proposal submission process. As stated in this RFGP, ECA bears no responsibility for applicant timeliness of submission or data errors resulting from transmission or conversion processes for proposals submitted via Grants.gov.

Please follow the instructions available in the `Get Started' portion of the site (http://www.grants.gov/GetStarted).

Several of the steps in the Grants.gov registration process could take several weeks. Therefore, applicants should check with appropriate staff within their organizations immediately after reviewing this RFGP to confirm or determine their registration status with Grants.gov.

Once registered, the amount of time it can take to upload an application will vary depending on a variety of factors including the size of the application and the speed of your internet connection. In addition, validation of an electronic submission via Grants.gov can take up to two business days.

Therefore, we strongly recommend that you not wait until the application deadline to begin the submission process through Grants.gov.

The Grants.gov Web site includes extensive information on all phases/aspects of the Grants.gov process, including an extensive section on frequently asked questions, located under the “For Applicants” section of the Web site. ECA strongly recommends that all potential applicants review thoroughly the Grants.gov Web site, well in advance of submitting a proposal through the Grants.gov system. ECA bears no responsibility for data errors resulting from transmission or conversion processes.

Direct all questions regarding Grants.gov registration and submission to: Grants.gov Customer Support; Contact Center Phone: 800-518-4726; Business Hours: Monday-Friday, 7 a.m.-9 p.m. Eastern Time; E-mail: support@grants.gov.

Applicants have until midnight (12 a.m.), Washington, DC time of the closing date to ensure that their entire application has been uploaded to the Grants.gov site. There are no exceptions to the above deadline. Applications uploaded to the site after midnight of the application deadline date will be automatically rejected by the grants.gov system, and will be technically ineligible.

Please refer to the Grants.gov Web site, for definitions of various “application statuses” and the difference between a submission receipt and a submission validation. Applicants will receive a validation e-mail from grants.gov upon the successful submission of an application. Again, validation of an electronic submission via Grants.gov can take up to two business days. Therefore, we strongly recommend that you not wait until the application deadline to begin the submission process through Grants.gov. ECA will not notify you upon receipt of electronic applications.

It is the responsibility of all applicants submitting proposals via the Grants.gov web portal to ensure that proposals have been received by Grants.gov in their entirety, and ECA bears no responsibility for data errors resulting from transmission or conversion processes.

IV.6.3 Intergovernmental Review of Applications

Executive Order 12372 does not apply to this program.

V. Application Review Information

V.1. Review Process

The Bureau will review all proposals for technical eligibility. Proposals will be deemed ineligible if they do not fully adhere to the guidelines stated herein and in the Solicitation Package. All eligible proposals will be reviewed by the program office, as well as the Public Diplomacy section overseas, where appropriate. Eligible proposals will be subject to compliance with Federal and Bureau regulations and guidelines and forwarded to Bureau grant panels for advisory review. Proposals may also be reviewed by the Office of the Legal Adviser or by other Department elements. Final funding decisions are at the discretion of the Department of State's Assistant Secretary for Educational and Cultural Affairs. Final technical authority for cooperative agreements resides with the Bureau's Grants Officer.

V.2. Review Criteria

Technically eligible applications will be competitively reviewed according to the criteria stated below. These criteria are not rank ordered and all carry equal weight in the proposal evaluation:

1. Quality of Program Plan and Ability to Achieve Program Objectives: Proposals should exhibit originality, substance, precision, and relevance to the Bureau's mission. A detailed agenda and relevant work plan should demonstrate substantive undertakings and logistical capacity. Objectives should be reasonable, feasible, and flexible. Proposals should demonstrate clearly how the institution will meet the program's objectives and plan.

2. Support for Diversity: Proposals should demonstrate substantive support of the Bureau's policy on diversity. Achievable and relevant features should be cited in both program administration (program venue and program evaluation) and program content (orientation and wrap-up sessions, program meetings, presenters, and resource materials).

3. Evaluation and Follow-Up: Proposals should include a plan to evaluate the activity's success, both as the activities unfold and at the end of the program. The Bureau recommends that the proposal include a draft survey questionnaire or other technique plus a description of a methodology to use to link outcomes to original project objectives. Proposals also should discuss provisions made for follow-up with returned participants as a means of establishing longer-term individual and institutional linkages.

4. Cost-effectiveness/Cost-sharing: The overhead and administrative components of the proposal, including salaries and honoraria, should be kept as low as possible. All other items should be necessary and appropriate. Proposals should maximize cost-sharing through other private sector support, as well as institutional direct funding contributions.

5. Institutional Track Record/Ability: Proposals should demonstrate an institutional record of successful exchange programs, including responsible fiscal management and full compliance with all reporting requirements for past Bureau grants as determined by Bureau Grants Staff. The Bureau will consider the past performance of prior recipients and the demonstrated potential of new applicants. Proposed personnel and institutional resources should be fully qualified to achieve the project's goals.

6. Follow-on Activities: Proposals should provide a plan for continued follow-on activity (without Bureau support) ensuring that Bureau supported programs are not isolated events.

VI. Award Administration Information

VI.1. Award Notices

Final awards cannot be made until funds have been appropriated by Congress, allocated and committed through internal Bureau procedures. Successful applicants will receive a Federal Assistance Award (FAA) from the Bureau's Grants Office. The FAA and the original proposal with subsequent modifications (if applicable) shall be the only binding authorizing document between the recipient and the U.S. Government. The FAA will be signed by an authorized Grants Officer and mailed to the recipient's responsible officer identified in the application.

Unsuccessful applicants will receive notification of the results of the application review from the ECA program office coordinating this competition.

VI.2. Administrative and National Policy Requirements

Terms and Conditions for the Administration of ECA agreements include the following:

Office of Management and Budget Circular A-122, “Cost Principles for Nonprofit Organizations.”

Office of Management and Budget Circular A-21, “Cost Principles for Educational Institutions.”

OMB Circular A-87, “Cost Principles for State, Local and Indian Governments.”

OMB Circular No. A-110 (Revised), “Uniform Administrative Requirements for Grants and Agreements with Institutions of Higher Education, Hospitals, and other Nonprofit Organizations.”

OMB Circular No. A-102, “Uniform Administrative Requirements for Grants-in-Aid to State and Local Governments.”

OMB Circular No. A-133, “Audits of States, Local Government, and Non-profit Organizations.”

Please reference the following Web sites for additional information:

http://www.whitehouse.gov/omb/grants

http://fa.statebuy.state.gov

VI.3. Reporting Requirements

You must provide ECA with a hard copy original plus one copy of the following reports:

(1) An interim program report no more than 90 days after the completion of the Institute;

(2) A final program and financial report no more than 90 days after the expiration of the award;

(3) A concise, one-page final program report summarizing program outcomes no more than 90 days after the expiration of the award. This one-page report will be transmitted to OMB, and be made available to the public via OMB's USAspending.gov Web site—as part of ECA's Federal Funding Accountability and Transparency Act (FFATA) reporting requirements.

(1.) A SF-PPR, “Performance Progress Report” Cover Sheet with all program reports. Award recipients will be required to provide reports analyzing their evaluation findings to the Bureau in their regular program reports. Please refer to IV. Application and Submission Instructions (IV.3.d.3) above for Program Monitoring and Evaluation information.

All data collected, including survey responses and contact information, must be maintained for a minimum of three years and provided to the Bureau upon request.

All reports must be sent to the ECA Grants Officer and ECA Program Officer listed in the final assistance award document.

VII. Agency Contacts

For questions about this announcement, contact: Amy M. Rustan, Study of the U.S. Branch, ECA/A/E/USS, U.S. Department of State, Fourth Floor, SA-5, 2200 C Street, NW., Washington, DC 20522-0504, phone: (202) 632-3337, e-mail: RustanAM@state.gov.

All correspondence with the Bureau concerning this RFGP should reference the above title and number ECA/A/E/USS-10-11-25.

VIII. Other Information: Notice

The terms and conditions published in this RFGP are binding and may not be modified by any Bureau representative. Explanatory information provided by the Bureau that contradicts published language will not be binding. Issuance of the RFGP does not constitute an award commitment on the part of the Government. The Bureau reserves the right to reduce, revise, or increase proposal budgets in accordance with the needs of the program and the availability of funds. In addition, it reserves the right to accept proposals in whole or in part and to make an award or awards in the best interest of the program. Awards made will be subject to periodic reporting and evaluation requirements per section VI.3 above.

Dated: November 3, 2009.
Maura M. Pally,
Acting Assistant Secretary for Educational and Cultural Affairs, Department of State.

[FR Doc. E9-26913 Filed 11-10-09; 8:45 am]

BILLING CODE 4710-05-P